DEPARTMENT OF THE INTERIOR

[16XD4523WS/DWSN00000.000000/DS61200000/DP61203]

Public Meetings of the Invasive Species Advisory Committee

AGENCY: Office of the Secretary, Interior.

ACTION: Notice.

SUMMARY: Pursuant to the provisions of the Federal Advisory Committee Act, notice is hereby given of meetings of the Invasive Species Advisory Committee (ISAC). Comprised of 30 nonfederal invasive species experts and stakeholders from across the nation, the purpose of the Advisory Committee is to provide advice to the National Invasive Species Council, as authorized by Executive Order 13112, on a broad array of issues related to preventing the introduction of invasive species and providing for their control and minimizing the economic, ecological, and human health impacts that invasive species cause. The Council is co-chaired by the Secretary of the Interior, the Secretary of Agriculture, and the Secretary of Commerce. The duty of the Council is to provide national leadership regarding invasive species issues.

Purpose of Meeting: To convene the full ISAC and to provide expert input and recommendations to NISC federal agencies and their partners on invasive species matters of national importance. While in session, ISAC will review a draft of the white paper entitled, Enhancing the Effectiveness of Biological Control Programs of Invasive Species by Utilizing an Integrated Pest Management Approach, as proposed by ISAC's Subcommittee on Control and Management. Additional topics of discussion include a status update on the development of the next iteration of the National Invasive Species Management Plan, as well as ongoing progress under a variety of priority initiatives focused on invasive species early detection and rapid response (EDRR). The meeting agenda and supplemental materials are available on the NISC Web site at http://www.doi.gov/invasivespecies/isac/isac-meetings.cfm.

DATES: Meeting of the Invasive Species Advisory Committee: Wednesday, October 28, 2015: 8:30 a.m. to 5:00 p.m.; Thursday, October 29, 2015: 8:30 a.m. to 5:30 p.m.; Friday, October 30, 2015; 8:15 a.m.-12:00 p.m.

ADDRESSES: U.S. Department of Agriculture, National Agricultural Library, 10301 Baltimore Avenue, Beltsville, MD 20705. The general session will be held in the Reading Room on the first floor. NOTE: All meeting participants and interested members of the public must register their attendance at https://app.smartsheet.com/b/form?EQBCT=86e55ccd349243cb94e735764b6683cc. Attendees will be cleared through building security prior to being escorted to the meeting.

FOR FURTHER INFORMATION CONTACT: Kelsey Brantley, National Invasive Species Council Program Specialist and ISAC Coordinator, Phone: (202) 208-4122; Fax: (202) 208-4118, email: Kelsey_Brantley@ios.doi.gov.

Dated: October 7, 2015.
Jamie K. Reaser,
Executive Director, National Invasive Species Council.

[FR Doc. 2015-26003 Filed 10-13-15; 8:45 am]

BILLING CODE 4334-63-P